ENVIRONMENTAL PROTECTION AGENCY

[EPA-HQ-OPP-2006-0986; FRL-8420-1]

Amendment to the Allethrins Reregistration Eligibility Decision

AGENCY: Environmental Protection Agency (EPA).

ACTION: Notice.

SUMMARY: This notice announces the availability of EPA's Revised Reregistration Eligibility Decision (RED) for the allethrins series of pesticides. EPA amended the allethrins RED to include an assessment of a registered use for the allethrins (use in commercial animal housing automatic misting systems), which was not considered in the original RED.

FOR FURTHER INFORMATION CONTACT: Molly Clayton, Special Review and Reregistration Division (7508P), Office of Pesticide Programs, Environmental Protection Agency, 1200 Pennsylvania Ave., NW., Washington, DC 20460-0001; telephone number: (703) 603-0522; fax number: (703) 308-8090; e-mail address: clayton.molly@epa.gov.

SUPPLEMENTARY INFORMATION:

I. General Information

A. Does this Action Apply to Me?

This action is directed to the public in general, and may be of interest to a wide range of stakeholders including environmental, human health, farm worker and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established a docket for this action under docket identification (ID) number EPA-HQ-OPP-2006-0986. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

2. Electronic access. You may access this Federal Register document electronically through the EPA Internet under the “Federal Register” listings at http://www.epa.gov/fedrgstr.

II. Background

A. What Action is the Agency Taking?

Section 4 of the Federal Insecticide, Fungicide, and Rodenticide Act (FIFRA) directs EPA to reevaluate existing pesticides to ensure that they meet current scientific and regulatory standards. In the Federal Register issue of September 26, 2007 (72 FR 54662) (FRL-8144-8), EPA issued a RED for the allethrins under section 4(g)(2)(A) of FIFRA. Due to their uses, risk, and other factors, the allethrins were reviewed through the modified 4-Phase public participation process. Subsequent to publication of the RED, the technical registrant (Valent BioSciences Corporation) identified a product (EPA registration number 21165-62) registered for use in commercial animal housing automatic misting systems, a use not addressed in the RED or in the supporting risk assessments. As a result, the Agency updated the allethrins occupational and residential risk assessment to include an evaluation of this product and use pattern, and revised the RED accordingly. All other risk assessments described in the original RED remain the same.

B. What is the Agency's Authority for Taking this Action?

Section 4(g)(2) of FIFRA, as amended, directs that, after submission of all data concerning a pesticide active ingredient, “the Administrator shall determine whether pesticides containing such active ingredient are eligible for reregistration,” before calling in product specific data on individual end-use products and either reregistering products or taking other “appropriate regulatory action.”

List of Subjects

Environmental protection, Allethrins, Pesticides and pests.

Dated: June 1, 2009.
Richard P. Keigwin, Jr.,
Director, Special Review and Reregistration Division, Office of Pesticide Programs.

[FR Doc. E9-13460 Filed 6-9-09; 8:45 am]

BILLING CODE 6560-50-S